COMMODITY FUTURES TRADING COMMISSION

17 CFR Part 41

RIN 3038-AB71

SECURITIES AND EXCHANGE COMMISSION

17 CFR Part 242

[Release No. 34-44853; File No. S7-16-01]

RIN 3235-A122

Customer Margin Rules Relating to Security Futures

Correction

In proposed rule document 01-24574 beginning on page 50720 in the issue of Thursday, October 24, 2001, make the following corrections:

1. On page 50727, in the table, under the heading “Maintenance margin requirement”, in the second entry, in the third line, “of the plus put plus” should read, “of the put plus”.

2. On the same page, in the table, under the heading, “Initial margin requirement”, in the third entry, in the fourth line, delete “aggregate”.

3. On the same page, under the heading “Initial margin requirement”, in the sixth entry, in the second line, “based” should read, “basket”.

4. On page 50728, under the heading, “Maintenance margin requirement”,

(a) In the fifth entry, in the first line, “(1) of” should read, “(1) 10%”.

(b) In the last entry, in the fifth line, after “amount”insert “if”.

5. On page 50729, in the table, under the heading “Description of offset”, in the second entry, in the first line, delete “(or stock”.

[FR Doc. C1-24574 Filed 11-9-01; 8:45 am]

BILLING CODE 1505-01-D

DEPARTMENT OF DEFENSE

48 CFR Part 213

Defense Federal Acquisition Regulation Supplement; Overseas Use of the Purchase Card in Contingency, Humanitarian, or Peacekeeping Operations

Correction

In rule document 01-27371 beginning on page 55123 in the issue of Thursday, November 1, 2001, make the following corrections:

1. On page 55123, in the third column, the heading

213.301 Government—wide commercial purchase card.

is corrected to read

213.301 Governmentwide commercial purchase card.

2. In the same column, in paragraph (3) under the heading, the last line of paragraph (3) “threshold, if;” is corrected to read “threshold, if—”.

[FR Doc. C1-27371 Filed 11-9-01; 8:45 am]

BILLING CODE 1505-01-D

DEPARTMENT OF HEALTH AND HUMAN SERVICES

Centers for Medicare & Medicaid Services

[CMS-2133-N]

RIN 0938-ZA17

State Children's Health Insurance Program; Final Allotments to States, the District of Columbia, and U.S. Territories and Commonwealths for Fiscal Year 2002

Correction

In notice document 01-26037 beginning on page 54246 in the issue of Friday, October 26, 2001, make the following correction:

On page 54250, in the table titled “State Children's Health Insurance Program Allotments for Federal Fiscal Year”in column (G), Allotment for the State of California, the number “528,466,560” is corrected to read “528,446,560”.

[FR Doc. C1-26037 Filed 11-9-01; 8:45 am]

BILLING CODE 1505-01-D

DEPARTMENT OF TRANSPORTATION

Federal Aviation Administration

14 CFR Part 71

Establishment of Class E Airspace; Sharon, PA

Correction

In rule document 01-23938 beginning on page 49518 in the issue of Friday, September 28, 2001, make the following correction:

§71.1 [Corrected]

On page 49519, in the first column, the second line after the heading AEA PA E5, Sharon, PA [NEW] “(lat. 42°” is corrected to read “(lat. 41°”

[FR Doc. C1-23938 Filed 11-9-01; 8:45 am]

BILLING CODE 1505-01-D